DEPARTMENT OF THE INTERIOR

National Park Service

[NPS-WASO-NRNHL-11180; 2200-3200-665]

National Register of Historic Places; Notification of Pending Nominations and Related Actions

Nominations for the following properties being considered for listing or related actions in the National Register were received by the National Park Service before August 25, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by October 2, 2012. Before including your address, phone number, email address, or other personal identifying information in your comment, you should be aware that your entire comment—including your personal identifying information—may be made publicly available at any time. While you can ask us in your comment to withhold your personal identifying information from public review, we cannot guarantee that we will be able to do so.

Dated: August 29, 2012.
J. Paul Loether,
Chief, National Register of Historic Places/National Historic Landmarks Program.

FLORIDA

Hillsborough County

Rogers Park and Golf Course—Willie Black Side, 7801 N. 30th St., Tampa, 12000838

Leon County

Sollner—Wall House, 2235 Chaires Cross Rd., Tallahassee, 12000839

GEORGIA

Fulton County

Sardis Methodist Church and Cemetery, 3725 Powers Ferry Rd., Atlanta, 12000840

ILLINOIS

Cook County

Auburn Gresham Bungalow Historic District, (Chicago Bungalows MPS) Roughly bounded by S. Paulina, 78th, & 75th Sts., & S. Winchester Ave., Chicago, 12000841

KANSAS

Barton County

Manweiler—Maupin Chevrolet, (Roadside Kansas MPS) 271 S. Main St., Hoisington, 12000842

Brown County

Bethany Brethren Church, 121 1st St., Hamlin, 12000843

Douglas County

French, Charles & Elizabeth Haskell, House, 1300 Haskell Ave., Lawrence, 12000844

MARYLAND

Howard County

Howard Lodge, 12301 Howard Lodge Rd., Sykesville, 12000845

MINNESOTA

Hennepin County

Lincoln Bank Building, 730 Hennepin Ave., Minneapolis, 12000846

MISSOURI

Jackson County

Seven Oaks School, (Kansas City, Missouri School District Pre-1970 MPS) 3711 Jackson Ave., Kansas City, 12000847

SOUTH CAROLINA

Hampton County

Lawtonville Baptist Church, 194 E. 4th St., Estill, 12000848

Palmetto Theatre, 109 Lee Ave., Hampton, 12000849

Richland County

Efird's Department Store, 1601 Main St., Columbia, 12000850

UTAH

Duchesne County

42Dc1620, (Nine Mile Canyon, Utah MPS) Address Restricted, Price, 12000837

VIRGINIA

Richmond Independent city

Forest Hill Historic District, Roughly bounded by Riverside Dr., Forest Hill Park, Reedy Cr., Bassett Ave., Southcliff Rd., Cedar Ln., Richmond (Independent City), 12000851

WISCONSIN

Brown County

Christ Episcopal Church Complex, 425 Cherry St., Green Bay, 12000852

A request for removal has been made for the following resource:

INDIANA

St. Joseph County

Northern Indiana Gas and Electric Company Building, 221 N. Michigan, South Bend, 85001225

[FR Doc. 2012-22763 Filed 9-14-12; 8:45 am]

BILLING CODE 4312-51-P